DEPARTMENT OF THE INTERIOR

National Park Service

National Register of Historic Places; Notification of Pending Nominations and Related Actions

Nominations for the following properties being considered for listing or related actions in the National Register were received by the National Park Service before March 27th, 2010. Pursuant to section 60.13 of 36 CFR Part 60 written comments are being accepted concerning the significance of the nominated properties under the National Register criteria for evaluation. Comments are also being accepted on the following properties being considered for removal pursuant to 36 CFR 60.15. Comments may be forwarded by United States Postal Service, to the National Register of Historic Places, National Park Service, 1849 C St., NW., 2280, Washington, DC 20240; by all other carriers, National Register of Historic Places, National Park Service,1201 Eye St., NW., 8th Floor, Washington, DC 20005; or by fax, 202-371-6447. Written or faxed comments should be submitted by May 11, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National, Historic Landmarks Program.

ARIZONA

Cochise County

Bisbee Residential Historic District, Roughly bounded by the City of Bisbee city limits N. of Lavender Put Mine, excluding existing Bisbee Historic District, Bisbee, 10000233

Maricopa County

Northfield Historic District, Bounded by W. State Ave (S), N. 59th Ave (E), W. Orangewood Ave (N), and N. 59th Lane (W), Glendale, 10000234

Thunderbird Estates and The McDonald Addition Historic District, Bounded by W. Northern Ave (S), N. 59th Ave (W), and W. Royal Palm Rd (N), and including lots facing both sides of N. 57 Glendale, 10000235

Village Grove 1-6 Historic District, Bounded by the canal at 66th St. to the W, 69th to the E, Oak St to the N, Almeria Rd to the S, Scottsdale, 10000236

COLORADO

Montrose County

Rio Grande Southern Railroad Derrick Car, (Firehouses in Washington DC MPS) 82800Q 83rd Rd, Cimarron Visitor Center, Curecanti National Recreation Area, Cimarron, 10000237

DISTRICT OF COLUMBIA

District of Columbia

Engine Company 19 (Firehouses in Washington DC MPS), 2813 Pennsylvania Ave., SE, Washington, DC, 10000238

Euclid Apartments (Apartment Buildings in Washington, DC, MPS), 1740 Euclid St, NW, Washington, DC, 10000239

Janney Elementary School (Tenleytown in Washington, DC: 1770-1941, MPS), 4130 Albemarle St, NW, Washington, DC, 10000241

Jesse Reno School (Public School Buildings of Washington, DC MPS), 4820 Howard St, NW, Washington, DC, 10000242

Woodrow Wilson High School (Public School Buildings of Washington, DC MPS), 3950 Chesapeake St, NW, Washington, DC, 10000243

MASSACHUSETTS

Norfolk County Wilber, Charles R., School, 75-85 S Main St, Sharon, 10000244

MISSOURI

Greene County

Rail Haven Motel (Route 66 in Missouri MPS), 203 S, Glenstone Ave, Springfield, 10000245

St. Louis County

Murphy, Joseph and Ann, Residence, 7901 Stanford Ave, University City, 10000246

SOUTH CAROLINA

Hampton County

Gravel Hill Plantation, 3954 Augusta Stage Coach Rd, Hampton, 10000240

TEXAS

Collin County

Fairview H&TC Railroad Historic District, About ¼ mi. W of St HWY 5 on Sloan Creek & the former Houston & Texas Central Railroad tracks, Fairview, 10000247

Dallas County

Parkland Hospital, 3819 Maple Ave, Dallas, 10000249

Houston County

Houston County Courthouse, 401 E Houston Ave, Crockett, 10000248

Kleberg County

Kleberg County Courthouse, 700 E Kleberg Ave, Kingsville, 10000250

Matagorda County

Luther Hotel, 408 S Bay Blvd, Palacios, 10000251

Orange County

Cow Bayou Swing Bridge (Historic Bridges of Texas MPS), SH 73/87 1.13 mi NE of jct with FM 1442, Bridge City, 10000252

Tarrant County

Heritage Park Plaza, W Bluff St at Main St, Fort Worth, 10000253

WASHINGTON

Kitsap County

Masonic Hall-Port Orchard, 202 Sidney Ave, Port Orchard, 10000254

Mason County

Schafer State Park, 1365 W Schafer Park Rd, Elma, 10000255

Request for REMOVAL has been made for the following resources:

WASHINGTON

Island County

Central Whidbey Island Historic District, 704 S Main St, Coupeville, 73001869

In the interest of preservation the comment period for the following resource has been waived or shortened to (3) three days:

DISTRICT OF COLUMBIA

Euclid Apartments (Apartment Buildings in Washington, DC, MPS), 1740 Euclid St, NW, Washington, DC, 10000239

[FR Doc. 2010-9589 Filed 4-23-10; 8:45 am]

BILLING CODE 4312-51-P